DEPARTMENT OF COMMERCE

National Oceanic and Atmospheric Administration

RIN 0648-XK26

Marine Mammals; File No. 13430

AGENCY: National Marine Fisheries Service (NMFS), National Oceanic and Atmospheric Administration (NOAA), Commerce.

ACTION: Notice; receipt of amended application.

SUMMARY: Notice is hereby given that the NMFS National Marine Mammal Laboratory, (Responsible Party: Dr. John Bengtson, Director), Seattle, WA, has submitted a revised application for a permit to conduct research on marine mammals.

DATES: Written, telefaxed, or e-mail comments must be received on or before October 19, 2009.

ADDRESSES: The application and related documents are available for review by selecting “Records Open for Public Comment” from the Features box on the Applications and Permits for Protected Species (APPS) home page, https://apps.nmfs.noaa.gov, and then selecting File No. 13430 from the list of available applications.

These documents are also available upon written request or by appointment in the following office(s):

Permits, Conservation and Education Division, Office of Protected Resources, NMFS, 1315 East-West Highway, Room 13705, Silver Spring, MD 20910; phone (301)713-2289; fax (301)713-0376; and

Northwest Region, NMFS, 7600 Sand Point Way NE, BIN C15700, Bldg. 1, Seattle, WA 98115-0700; phone (206)526-6150; fax (206)526-6426.

Written comments on this application should be submitted to the Chief, Permits, Conservation and Education Division, at the address listed above. Comments may also be submitted by facsimile to (301)713-0376, or by email to NMFS.Pr1Comments@noaa.gov. Please include the File No. in the subject line of the email comment.

Those individuals requesting a public hearing should submit a written request to the Chief, Permits, Conservation and Education Division at the address listed above. The request should set forth the specific reasons why a hearing on this application would be appropriate.

FOR FURTHER INFORMATION CONTACT: Tammy Adams or Kate Swails, (301)713-2289.

SUPPLEMENTARY INFORMATION: On September 8, 2008, notice was published (73 FR 52027) of a request for a permit under the authority of the Marine Mammal Protection Act of 1972, as amended (MMPA; 16 U.S.C. 1361 et seq.), and the regulations governing the taking and importing of marine mammals (50 CFR part 216).

The applicant has amended the application to request the permit include annual harassment of up to 250 threatened Eastern Distinct Population Segment Steller sea lions (Eumetopias jubatus) and 100 Southern Resident killer whales (Orcinus orca) incidental to aerial surveys and underwater playback experiments, respectively.

The amended application still proposes conduct of research on Pacific harbor seals (Phoca vitulina), California sea lions (Zalophus californianus), and northern elephant seals (Mirounga angustirostris) within coastal waters and on pinniped rookeries and haul outs of Washington and Oregon. Please refer to the table in the amended application for the numbers of animals proposed for taking, and the locations and manner of such taking.

In compliance with the National Environmental Policy Act of 1969 (42 U.S.C. 4321 et seq.), a draft environmental assessment (EA) has been prepared to examine whether significant environmental impacts could result from issuance of the proposed scientific research permit. Based on the analyses in the EA, it is NMFS initial determination that issuance of the permit would not significantly impact the quality of the human environment and that preparation of an environmental impact statement is not required.

Concurrent with the publication of this notice in the Federal Register, NMFS is forwarding copies of the application to the Marine Mammal Commission and its Committee of Scientific Advisors.

Dated: September 14, 2009.
P. Michael Payne,
Chief, Permits, Conservation and Education Division, Office of Protected Resources, National Marine Fisheries Service.

[FR Doc. E9-22500 Filed 9-17-09; 8:45 am]

BILLING CODE 3510-22-S